FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

Federal Cargo Inc., 7225 NW 68th Street, Unit 12, Miami, FL 33166, Officers: Edward Negron, Vice President (Qualifying Individual), Guido Cardoso, Jr., President

CCL Customs Service, Inc., 9083 S. La Cienega Blvd., Inglewood, CA 90301, Officers: Roger Chiu-Chou Lee, President (Qualifying Individual), Diana Nien Tzu Lee, Secretary

Mahomi Cargo Express Corporation, 1063 West Flagler Street, Miami, FL 33130, Officer: Cinthya Izaguirre, Vice President (Qualifying Individual)

Cross Country Van Lines LLC, 65 Railroad Avenue, Bldg. #5, Ridgefield, NJ 07657, Officer: Raphael Polonia (Qualifying Individual)

Suncargo, Inc., 1457 E. Plaza Blvd., National City, CA 91950, Officers: Eulogio M. Demonteverde, Jr., President (Qualifying Individual), Proserfina M. Demonteverde, Secretary

Non-Vessel-Operating Common Carrier and Ocean Freight Forwarder Transportation Intermediary Applicants:

Logistics Unlimited, Inc., 1535 Sunland Lane, Costa Mesa, CA 92626, Officers: Michelle Rouillard, Vice President (Qualifying Individual), Ted Shown, President

Freight Brokers Global Services Inc., 1200 Brunswick Avenue, Far Rockaway, NY 11691, Officer: Michael Francis Molfetta, President (Qualifying Individual)

Ground Ocean Air Logistics, Inc., dba G O A L, Inc., 1740 NW 69th Avenue, Miami, FL 33126, Officer: Eric J. Williams, President (Qualifying Individual)

Eastern Mercantile, Inc., 5232 Settlers Park Drive, Virginia Beach, VA 23464, Officers: Richard S. Huang, President (Qualifying Individual), Weiqing Zhou, Vice President

Cargocom USA, 8354 NW 68th Street, Miami, FL 33166, Officer: Alberto Ortiz, President (Qualifying Individual)

Ocean Freight Forwarder-Ocean Transportation Intermediary Applicants:

Solarian Logistics International, 14514 Luthe Road, Houston, TX 77039, Officers: Ezequiel Dario Pitty, Partner (Qualifying Individual), Jair Alberto Pitty, Partner

Reliable Enterprises, 5630 S. Wayside Drive, Houston, TX 77087, Officer: Godsway Amedzrovi, Manager (Qualifying Individual)

Centro America Envos, Inc., 1741 W. Flagler Street, Miami, FL 33135, Officers: Martha Cecilia Arana, President (Qualifying Individual), Israel Arana, Vice President

Atwimah Shipping, 1388 Jesup Avenue, Bronx, NY 10452, Officer: ATA Aduna, Sole Proprietor

Dated: September 9, 2005.
Bryant L. VanBrakle,
Secretary.

[FR Doc. 05-18266 Filed 9-13-05; 8:45 am]

BILLING CODE 6730-01-P